ENVIRONMENTAL PROTECTION AGENCY

40 CFR Part 52

[EPA-R03-OAR-2005-MD-0014; FRL-8028-3]

Approval and Promulgation of Air Quality Implementation Plans; Maryland; Amendments to the Control of VOC Emissions From Yeast Manufacturing

AGENCY: Environmental Protection Agency (EPA).

ACTION: Proposed rule.

SUMMARY: EPA is proposing to approve a State Implementation Plan (SIP) revision submitted by Maryland. This revision pertains to the amendment of a regulation that controls volatile organic compound (VOC) emissions from yeast manufacturing facilities. This action is being taken under the Clean Air Act (CAA or the Act).

DATES: Written comments must be received on or before March 8, 2006.

ADDRESSES: Submit your comments, identified by Docket ID Number EPA-R03-OAR-2005-MD-0014 by one of the following methods:

A. Http://www.regulations.gov. Follow the on-line instructions for submitting comments.

B. E-mail: morris.makeba@epa.gov.

C. Mail: EPA-R03-OAR-2005-MD-0014, Makeba Morris, Chief, Air Quality Planning Branch, Mailcode 3AP21, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2005-MD-0014. EPA's policy is that all comments received will be included in the public docket without change, and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy during normal business hours at the Air Protection Division, U.S. Environmental Protection Agency, Region III, 1650 Arch Street, Philadelphia, Pennsylvania 19103. Copies of the State submittal are available at the Maryland Department of the Environment, 1800 Washington Boulevard, Suite 705, Baltimore, Maryland, 21230.

FOR FURTHER INFORMATION CONTACT: Rose Quinto, (215) 814-2182, or by e-mail at quinto.rose@epa.gov.

SUPPLEMENTARY INFORMATION: On October 31, 2005, the Maryland Department of the Environment (MDE) submitted a revision to the Maryland SIP. The SIP revision consists of amendments to COMAR 26.11.19.17—Control of VOC Emissions from Yeast Manufacturing.

I. Background

COMAR 26.11.19.17 contains requirements for the control of VOC emissions from sources that manufacture yeast. In 2004, the regulation was amended to clarify requirements for sources that manufacture both nutritional yeast and specialty yeast. The amendment provided more flexibility for sources that could manufacture specialty yeast and meet VOC standards that were developed for the lower emitting nutritional yeast. The amendment also included changes that made Maryland's regulation consistent with EPA's maximum achievable control technology (MACT) standards for nutritional yeast. In addition, the amendment required sources to demonstrate that the standards were met at least 98 percent of the time for each 12-month period.

II. Summary of SIP Revision

The amendments submitted on October 31, 2005 to COMAR 26.11.19.17 are: (1) To reinstate the requirements for non-nutritional and specialty yeast installations to meet certain operational requirements to minimize VOC emissions, and (2) to clarify the 98 percent compliance demonstration is a 12-month rolling average.

The amendment requires pure culture and yeasting installations (non-nutritional and specialty yeast installations) to monitor temperature, pH, and sugar content of the batch to minimize the formation and emission of VOC. The amendment also requires batch production information be collected each month and that the semi-annual reports submitted to MDE include this monthly data. The semi-annual report shall include: (1) A summary of the number of batches for each month and calculations showing the percent of batches that met the VOC standards for each month, and (2) calculations showing the percent of batches that met the VOC standards during the previous six 12-month rolling average periods. Affected sources are required to meet the VOC standards for at least 98 percent of the batches produced during each rolling 12-month period, beginning July 1, 2004.

III. Proposed Action

EPA is proposing to approve the Maryland SIP revision for the amendments to the regulation regarding the control of VOC emissions from yeast manufacturing facilities, which was submitted on October 31, 2005. Implementation of these amendments will result in the reduction of VOC emissions from yeast manufacturing facilities. EPA is soliciting public comments on the issues discussed in this document. These comments will be considered before taking final action.

IV. Statutory and Executive Order Reviews

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355 (May 22, 2001)). This action merely proposes to approve state law as meeting Federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Public Law 104-4). This proposed rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely proposes to approve a state rule implementing a Federal requirement, and does not alter the relationship or the distribution of power and responsibilities established in the Clean Air Act. This proposed rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this proposed rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order.

This proposed rule pertaining to Maryland's amendments to the regulations pertaining to the control of VOC emissions from yeast manufacturing facilities, does not impose an information collection burden under the provisions of the Paperwork Reduction Act of 1995 (44 U.S.C. 3501 et seq.).

List of Subjects in 40 CFR Part 52

Environmental protection, Air pollution control, Ozone, Reporting and recordkeeping requirements, Volatile organic compounds.

Authority: 42 U.S.C. 7401 et seq.

Dated: January 26, 2006.
Donald S. Welsh,
Regional Administrator, Region III.

[FR Doc. E6-1596 Filed 2-3-06; 8:45 am]

BILLING CODE 6560-50-P